DEPARTMENT OF HEALTH AND HUMAN SERVICES

Administration for Children and Families

Proposed Information Collection Activity; Comment Request

Title: Permanency Innovations Initiative Evaluation: Phase 2.

OMB No.: 0970-0408.

Description: The Administration for Children and Families (ACF), U.S. Department of Health and Human Services (HHS) intends to collect data for an evaluation of the Permanency Innovations Initiative (PII). This 5-year initiative, funded by the Children's Bureau (CB) within ACF, is intended to build the evidence base for innovative interventions that enhance well-being and improve permanency outcomes for particular groups of children and youth who are at risk for long-term foster care and who experience the most serious barriers to timely permanency.

The CB has funded six grantees to identify local barriers to permanent placement and implement innovative strategies that mitigate or eliminate those barriers and reduce the likelihood that children will remain in foster care for three years or longer. The first year of the initiative focused on clarifying grantees' target populations and intervention programs. In addition, evaluation plans were developed to support rigorous site-specific and cross-site studies to document the implementation and effectiveness of the grantees' projects and the initiative overall.

Data collection for the PII evaluation includes a number of components being launched at different points in time. Phase 1 included data collection for a cross-site implementation evaluation and site-specific evaluations of two PII grantees (Washoe County, Nevada, and the State of Kansas). Phase 1 data collection was approved August 2012 (OMB# 0970-0408).

The second phase includes site-specific evaluations of four PII grantees expected to implement interventions in the third year of the PII grant period. The four grantees are Arizona Department of Economic Security (ADES); California Department of Social Services' California Partnership for Permanency (CAPP); Illinois Department of Children and Family Services (DCFS); and the Los Angeles Gay and Lesbian Center's Recognize Intervene Support Empower (RISE). Later submission for a cost study is planned for late Spring 2013, with data collection to begin in late Fall 2013.

Data for the evaluations will be collected through: (1) Surveys of children, youth, foster parents, guardians, biological parents, and caseworkers; and (2) document reviews of case records.

Respondents: Children/youth and their parents or permanent or foster caregivers, caseworkers.

Annual Burden Estimates
Instrument | Total annual burden hours | Annual number of respondents | Number of responses per respondent | Average burden hours per response
ADES:
Child Assent Form, Child Assent Script | 115 | 383 | 1.0 | 0.3
Child/Youth Interview | 383 | 383 | 2.0 | 0.5
Caseworker Prospective-Homes-Found Consent Information Sheet | 7 | 72 | 1.0 | 0.1
Caseworker Interview Prospective-Homes-Found | 22 | 72 | 1.0 | 0.3
Caseworker Decision-Making Consent Information Sheet | 7 | 72 | 1.0 | 0.1
Caseworker Interview Decision-Making | 36 | 72 | 1.0 | 0.5
ADES annual burden hours | 570 |  |  |
CAPP:
Parent/Guardian Interview | 179 | 597 | 1.0 | 0.3
Caseworker Data Extraction | 149 | 298 | 1.0 | 0.5
CAPP annual burden hours | 328 |  |  |
DCFS:
Biological Parent Consent | 13 | 134 | 1.0 | 0.1
Foster Parent Consent | 24 | 240 | 1.0 | 0.1
Youth Assent | 24 | 240 | 1.0 | 0.1
Biological Parent Interview | 80 | 134 | 2.0 | 0.3
Foster Parent Interview | 384 | 240 | 2.0 | 0.8
Youth Interview | 384 | 240 | 2.0 | 0.8
DCFS annual burden hours | 909 |  |  |
RISE:
Staff Consent | 400 | 2,000 | 2.0 | 0.1
Staff Survey | 800 | 2,000 | 2.0 | 0.2
Youth Assent to Learn about the Study | 8 | 27 | 1 | 0.3
Youth Assent to Participate in the Study | 8 | 27 | 1 | 0.3
Child Attorney Consent | 5 | 27 | 1 | 0.2
Youth Interview | 135 | 27 | 5 | 1.0
Qualitative Youth Interview FAQ/Assent | 1 | 7 | 1 | 0.2
Youth Qualitative Interview | 7 | 7 | 1 | 1.0
Permanency Resource/Current Caregiver FAQ/Contact Consent | 1 | 13 | 1 | 0.1
Permanency Resource/Current Caregiver Consent | 1 | 13 | 1 | 0.1
Interview with Permanency Resource | 59 | 13 | 5 | 0.9
Interview with Current Caregiver | 33 | 13 | 5 | 0.5
Survey of CCT Facilitators Emotional Permanency Survey | 1 | 1 | 5 | 0.2
RISE annual burden hours | 1,459 |  |  |
OVERALL ANNUAL BURDEN HOURS | 3,266 |  |  |

In compliance with the requirements of Section 3506(c)(2)(A) of the Paperwork Reduction Act of 1995, the Administration for Children and Families is soliciting public comment on the specific aspects of the information collection described above.

Copies of the proposed collection of information can be obtained and comments may be forwarded by writing to the Administration for Children and Families, Office of Planning, Research and Evaluation, 370 L'Enfant Promenade SW., Washington, DC 20447, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Steven M. Hanmer,
Reports Clearance Officer.

[FR Doc. 2012-27465 Filed 11-9-12; 8:45 am]

BILLING CODE 4184-01-P